DEPARTMENT OF HOMELAND SECURITY

Federal Emergency Management Agency

44 CFR Part 64

[Docket ID FEMA-2014-0002; Internal Agency Docket No. FEMA-8347]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: Effective dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR Part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR Part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and Location | Community No. | Effective date authorization/cancellation of sale of flood insurance in community | Current effective map date | Date certain Federal assistance no longer available in SFHAs
Region III
Pennsylvania:
Aleppo, Township of, Allegheny County | 421266 | January 16, 1976, Emerg; September 1, 1986, Reg; September 26, 2014, Susp | September 26, 2014 | September 26, 2014.
Aspinwall, Borough of, Allegheny County | 420005 | April 11, 1975, Emerg; December 18, 1979, Reg; September 26, 2014, Susp | ......do* | Do.
Baldwin, Borough of, Allegheny County | 420007 | November 19, 1973, Emerg; August 15, 1978, Reg; September 26, 2014, Susp | ......do | Do.
Baldwin, Township of, Allegheny County | 422650 | March 18, 1977, Emerg; October 30, 1978, Reg; September 26, 2014, Susp | ......do* | Do.
Bell Acres, Borough of, Allegheny County | 420008 | June 12, 1975, Emerg; May 1, 1985, Reg; September 26, 2014, Susp | ......do | Do.
Bellevue, Borough of, Allegheny County | 420009 | February 17, 1977, Emerg; December 15, 1978, Reg; September 26, 2014, Susp | ......do | Do.
Ben Avon, Borough of, Allegheny County | 420010 | June 2, 1976, Emerg; July 16, 1981, Reg; September 26, 2014, Susp | ......do | Do.
Bethel Park, Municipality of, Allegheny County | 420012 | September 3, 1974, Emerg; June 15, 1981, Reg; September 26, 2014, Susp | ......do | Do.
Blawnox, Borough of, Allegheny County | 420013 | November 1, 1974, Emerg; September 3, 1980, Reg; September 26, 2014, Susp | ......do | Do.
Brackenridge, Borough of, Allegheny County | 420014 | November 26, 1974, Emerg; August 15, 1980, Reg; September 26, 2014, Susp | ......do | Do.
Braddock, Borough of, Allegheny County | 420015 | January 21, 1975, Emerg; September 30, 1980, Reg; September 26, 2014, Susp | ......do | Do.
Bradford Woods, Borough of, Allegheny County | 421262 | March 9, 1977, Emerg; November 6, 1981, Reg; September 26, 2014, Susp | ......do | Do.
Brentwood, Borough of, Allegheny County | 420017 | June 6, 1974, Emerg; February 2, 1984, Reg; September 26, 2014, Susp | ......do | Do.
Bridgeville, Borough of, Allegheny County | 420018 | October 15, 1974, Emerg; January 5, 1984, Reg; September 26, 2014, Susp | ......do | Do.
Castle Shannon, Borough of, Allegheny County | 420020 | December 31, 1975, Emerg; March 30, 1979, Reg; September 26, 2014, Susp | ......do | Do.
Cheswick, Borough of, Allegheny County | 420022 | July 30, 1975, Emerg; June 18, 1980, Reg; September 26, 2014, Susp | ......do | Do.
Churchill, Borough of, Allegheny County | 420023 | July 2, 1974, Emerg; December 15, 1978, Reg; September 26, 2014, Susp | ......do | Do.
Clairton, City of, Allegheny County | 420024 | July 31, 1975, Emerg; October 16, 1979, Reg; September 26, 2014, Susp | ......do | Do.
Collier, Township of, Allegheny County | 421058 | July 7, 1975, Emerg; March 15, 1982, Reg; September 26, 2014, Susp | ......do | Do.
Coraopolis, Borough of, Allegheny County | 420025 | July 9, 1973, Emerg; June 15, 1979, Reg; September 26, 2014, Susp | ......do | Do.
Crafton, Borough of, Allegheny County | 420026 | April 15, 1974, Emerg; December 19, 1980, Reg; September 26, 2014, Susp | ......do | Do.
Crescent, Township of, Allegheny County | 421060 | January 24, 1975, Emerg; July 16, 1981, Reg; September 26, 2014, Susp | ......do* | Do.
Dravosburg, Borough of, Allegheny County | 420027 | February 7, 1975, Emerg; June 15, 1979, Reg; September 26, 2014, Susp | ......do | Do.
Duquesne, City of, Allegheny County | 420028 | August 14, 1974, Emerg; September 14, 1979, Reg; September 26, 2014, Susp | ......do | Do.
East Deer, Township of, Allegheny County | 421061 | February 5, 1975, Emerg; August 15, 1980, Reg; September 26, 2014, Susp | ......do | Do.
East Pittsburgh, Borough of, Allegheny County | 422662 | N/A, Emerg; February 8, 1996, Reg; September 26, 2014, Susp | ......do | Do.
Edgeworth, Borough of, Allegheny County | 420032 | August 5, 1974, Emerg; May 1, 1980, Reg; September 26, 2014, Susp | ......do | Do.
Elizabeth, Borough of, Allegheny County | 421263 | April 7, 1976, Emerg; July 16, 1981, Reg; September 26, 2014, Susp | ......do | Do.
Elizabeth, Township of, Allegheny County | 420033 | May 19, 1972, Emerg; March 15, 1977, Reg; September 26, 2014, Susp | ......do | Do.
Emsworth, Borough of, Allegheny County | 420034 | June 20, 1975, Emerg; September 30, 1980, Reg; September 26, 2014, Susp | ......do* | Do.
Etna, Borough of, Allegheny County | 421062 | March 27, 1974, Emerg; September 1, 1978, Reg; September 26, 2014, Susp | ......do | Do.
Fawn, Township of, Allegheny County | 421285 | February 20, 1975, Emerg; January 18, 1984, Reg; September 26, 2014, Susp | ......do | Do.
Forward, Township of, Allegheny County | 421064 | September 27, 1974, Emerg; February 1, 1980, Reg; September 26, 2014, Susp | ......do | Do.
Franklin Park, Borough of, Allegheny County | 420037 | January 10, 1975, Emerg; January 1, 1982, Reg; September 26, 2014, Susp | ......do | Do.
Frazer, Township of, Allegheny County | 421288 | May 3, 1976, Emerg; December 19, 1980, Reg; September 26, 2014, Susp | ......do | Do.
Glassport, Borough of, Allegheny County | 420038 | January 30, 1975, Emerg; June 15, 1979, Reg; September 26, 2014, Susp | ......do* | Do.
Glen Osborne, Borough of, Allegheny County | 420061 | February 16, 1973, Emerg; November 15, 1979, Reg; September 26, 2014, Susp | ......do | Do.
Glenfield, Borough of, Allegheny County | 420039 | July 9, 1975, Emerg; March 18, 1980, Reg; September 26, 2014, Susp | ......do | Do.
Green Tree, Borough of, Allegheny County | 420040 | June 27, 1974, Emerg; July 16, 1981, Reg; September 26, 2014, Susp | ......do | Do.
Hampton, Township of, Allegheny County | 420978 | September 17, 1973, Emerg; May 1, 1978, Reg; September 26, 2014, Susp | ......do | Do.
Harmar, Township of, Allegheny County | 421068 | June 3, 1974, Emerg; July 2, 1980, Reg; September 26, 2014, Susp | ......do | Do.
Haysville, Borough of, Allegheny County | 420042 | July 3, 1974, Emerg; March 18, 1980, Reg; September 26, 2014, Susp | ......do | Do.
Homestead, Borough of, Allegheny County | 420044 | January 10, 1975, Emerg; May 25, 1978, Reg; September 26, 2014, Susp | ......do | Do.
Jefferson Hills, Borough of, Allegheny County | 420046 | June 18, 1974, Emerg; April 1, 1980, Reg; September 26, 2014, Susp | ......do | Do.
Kennedy, Township of, Allegheny County | 421072 | April 26, 1974, Emerg; February 15, 1980, Reg; September 26, 2014, Susp | ......do | Do.
Kilbuck, Township of, Allegheny County | 421073 | August 18, 1975, Emerg; February 1, 1980, Reg; September 26, 2014, Susp | ......do | Do.
Leet, Township of, Allegheny County | 421075 | July 5, 1974, Emerg; September 14, 1979, Reg; September 26, 2014, Susp | ......do | Do.
Leetsdale, Borough of, Allegheny County | 420047 | April 23, 1974, Emerg; November 19, 1980, Reg; September 26, 2014, Susp | ......do | Do.
Liberty, Borough of, Allegheny County | 420048 | August 13, 1975, Emerg; November 1, 1979, Reg; September 26, 2014, Susp | ......do | Do.
Lincoln, Borough of, Allegheny County | 420049 | April 2, 1975, Emerg; September 28, 1979, Reg; September 26, 2014, Susp | ......do | Do.
Marshall, Township of, Allegheny County | 421080 | April 22, 1975, Emerg; November 4, 1981, Reg; September 26, 2014, Susp | ......do | Do.
McCandless, Town of, Allegheny County | 421081 | October 4, 1974, Emerg; June 18, 1980, Reg; September 26, 2014, Susp | ......do | Do.
McDonald, Borough of, Allegheny and Washington Counties | 420855 | January 24, 1975, Emerg; August 15, 1983, Reg; September 26, 2014, Susp | ......do | Do.
McKees Rocks, Borough of, Allegheny County | 420052 | November 3, 1972, Emerg; May 16, 1977, Reg; September 26, 2014, Susp | ......do | Do.
McKeesport, City of, Allegheny County | 420051 | June 6, 1973, Emerg; January 3, 1979, Reg; September 26, 2014, Susp | ......do | Do.
Millvale, Borough of, Allegheny County | 420053 | May 21, 1973, Emerg; July 16, 1979, Reg; September 26, 2014, Susp | ......do | Do.
Monroeville, Municipality of, Allegheny County | 420054 | May 23, 1973, Emerg; August 1, 1979, Reg; September 26, 2014, Susp | ......do | Do.
Moon, Township of, Allegheny County | 421082 | December 10, 1974, Emerg; August 15, 1979, Reg; September 26, 2014, Susp | ......do | Do.
Mount Lebanon, Municipality of, Allegheny County | 421272 | October 8, 1975, Emerg; June 30, 1976, Reg; September 26, 2014, Susp | ......do | Do.
Munhall, Borough of, Allegheny County | 420056 | March 6, 1975, Emerg; April 24, 1981, Reg; September 26, 2014, Susp | ......do | Do.
Neville, Township of, Allegheny County | 425385 | March 19, 1971, Emerg; July 7, 1972, Reg; September 26, 2014, Susp | ......do | Do.
North Fayette, Township of, Allegheny County | 421085 | March 23, 1978, Emerg; October 18, 1983, Reg; September 26, 2014, Susp | ......do | Do.
North Versailles, Township of, Allegheny County | 421231 | November 22, 1974, Emerg; April 1, 1981, Reg; September 26, 2014, Susp | ......do | Do.
O'Hara, Township of, Allegheny County | 421088 | December 3, 1974, Emerg; July 2, 1980, Reg; September 26, 2014, Susp | ......do | Do.
Oakmont, Borough of, Allegheny County | 420060 | July 25, 1974, Emerg; January 16, 1981, Reg; September 26, 2014, Susp | ......do | Do.
Pitcairn, Borough of, Allegheny County | 420062 | November 8, 1974, Emerg; April 1, 1980, Reg; September 26, 2014, Susp | ......do | Do.
Pittsburgh, City of, Allegheny County | 420063 | April 13, 1973, Emerg; December 15, 1981, Reg; September 26, 2014, Susp | ......do | Do.
Pleasant Hills, Borough of, Allegheny County | 420064 | January 16, 1976, Emerg; September 29, 1978, Reg; September 26, 2014, Susp | ......do | Do.
Plum, Borough of, Allegheny County | 420065 | July 2, 1975, Emerg; September 16, 1981, Reg; September 26, 2014, Susp | ......do | Do.
Port Vue, Borough of, Allegheny County | 420066 | April 30, 1974, Emerg; September 28, 1979, Reg; September 26, 2014, Susp | ......do | Do.
Rankin, Borough of, Allegheny County | 420067 | February 10, 1975, Emerg; July 2, 1980, Reg; September 26, 2014, Susp | ......do | Do.
Reserve, Township of, Allegheny County | 420068 | June 30, 1972, Emerg; April 15, 1977, Reg; September 26, 2014, Susp | ......do | Do.
Robinson, Township of, Allegheny County | 421097 | March 17, 1976, Emerg; February 3, 1982, Reg; September 26, 2014, Susp | ......do | Do.
Ross, Township of, Allegheny County | 420979 | October 24, 1973, Emerg; December 18, 1979, Reg; September 26, 2014, Susp | ......do | Do.
Rosslyn Farms, Borough of, Allegheny County | 420069 | February 7, 1975, Emerg; May 19, 1981, Reg; September 26, 2014, Susp | ......do | Do.
Scott, Township of, Allegheny County | 421100 | October 9, 1974, Emerg; May 3, 1982, Reg; September 26, 2014, Susp | ......do | Do.
Sewickley, Borough of, Allegheny County | 420070 | November 22, 1974, Emerg; September 14, 1979, Reg; September 26, 2014, Susp | ......do | Do.
Sewickley Hills, Borough of, Allegheny County | 420072 | December 10, 1976, Emerg; September 1, 1986, Reg; September 26, 2014, Susp | ......do | Do.
Shaler, Township of, Allegheny County | 421101 | April 22, 1974, Emerg; March 18, 1980, Reg; September 26, 2014, Susp | ......do | Do.
Sharpsburg, Borough of, Allegheny County | 420073 | September 4, 1973, Emerg; September 29, 1978, Reg; September 26, 2014, Susp | ......do | Do.
South Fayette, Township of, Allegheny County | 421106 | October 30, 1974, Emerg; February 3, 1982, Reg; September 26, 2014, Susp | ......do | Do.
South Park, Township of, Allegheny County | 421165 | April 26, 1974, Emerg; November 5, 1980, Reg; September 26, 2014, Susp | ......do | Do.
South Versailles, Township of, Allegheny County | 421281 | August 7, 1975, Emerg; August 1, 1979, Reg; September 26, 2014, Susp | ......do | Do.
Springdale, Township of, Allegheny County | 420074 | December 5, 1974, Emerg; July 16, 1980, Reg; September 26, 2014, Susp | ......do | Do.
Stowe, Township of, Allegheny County | 421110 | December 5, 1974, Emerg; February 15, 1980, Reg; September 26, 2014, Susp | ......do | Do.
Swissvale, Borough of, Allegheny County | 420075 | January 21, 1975, Emerg; June 30, 1976, Reg; September 26, 2014, Susp | ......do | Do.
Tarentum, Borough of, Allegheny County | 420076 | April 7, 1975, Emerg; August 15, 1980, Reg; September 26, 2014, Susp | ......do | Do.
Thornburg, Borough of, Allegheny County | 420077 | January 16, 1980, Emerg; July 18, 1983, Reg; September 26, 2014, Susp | ......do | Do.
Trafford, Borough of, Allegheny and Westmoreland Counties | 420903 | May 30, 1975, Emerg; September 28, 1979, Reg; September 26, 2014, Susp | ......do | Do.
Turtle Creek, Borough of, Allegheny County | 420079 | August 6, 1975, Emerg; November 19, 1980, Reg; September 26, 2014, Susp | ......do | Do.
Upper Saint Clair, Township of, Allegheny County | 421119 | June 11, 1974, Emerg; March 15, 1984, Reg; September 26, 2014, Susp | ......do | Do.
Verona, Borough of, Allegheny County | 422611 | December 13, 1974, Emerg; January 16, 1981, Reg; September 26, 2014, Susp | ......do | Do.
Versailles, Borough of, Allegheny County | 420081 | June 11, 1976, Emerg; October 18, 1988, Reg; September 26, 2014, Susp | ......do | Do.
Wall, Borough of, Allegheny County | 420082 | February 17, 1977, Emerg; November 19, 1987, Reg; September 26, 2014, Susp | ......do | Do.
West Deer, Township of, Allegheny County | 421299 | March 6, 1975, Emerg; October 18, 1983, Reg; September 26, 2014, Susp | ......do | Do.
West Elizabeth, Borough of, Allegheny County | 420083 | January 26, 1973, Emerg; September 29, 1978, Reg; September 26, 2014, Susp | ......do | Do.
West Homestead, Borough of, Allegheny County | 420084 | May 14, 1975, Emerg; August 15, 1980, Reg; September 26, 2014, Susp | ......do | Do.
West Mifflin, Borough of, Allegheny County | 420085 | August 7, 1974, Emerg; February 15, 1980, Reg; September 26, 2014, Susp | ......do | Do.
Whitaker, Borough of, Allegheny County | 420087 | July 24, 1975, Emerg; May 25, 1978, Reg; September 26, 2014, Susp | ......do | Do.
White Oak, Borough of, Allegheny County | 420089 | January 30, 1975, Emerg; September 14, 1979, Reg; September 26, 2014, Susp | ......do | Do.
Whitehall, Borough of, Allegheny County | 420088 | April 30, 1974, Emerg; October 28, 1977, Reg; September 26, 2014, Susp | ......do | Do.
Wilkins, Township of, Allegheny County | 420090 | March 16, 1973, Emerg; September 29, 1978, Reg; September 26, 2014, Susp | ......do | Do.
Wilmerding, Borough of, Allegheny County | 420091 | November 16, 1973, Emerg; August 1, 1979, Reg; September 26, 2014, Susp | ......do | Do.
Region IV
Florida:
Citrus County, Unincorporated Areas | 120063 | July 2, 1975, Emerg; August 15, 1984, Reg; September 26, 2034, Susp | ......do | Do.
Crystal River, City of, Citrus County | 120340 | May 28, 1975, Emerg; August 15, 1984, Reg; September 26, 2014, Susp | ......do | Do.
Dade City, City of, Pasco County | 120231 | May 2, 1975, Emerg; August 17, 1981, Reg; September 26, 2014, Susp | ......do | Do.
Glades County, Unincorporated Areas | 120095 | July 15, 1975, Emerg; May 17, 1982, Reg; September 26, 2014, Susp | ......do | Do.
Inverness, City of, Citrus County | 120348 | July 15, 1975, Emerg; May 17, 1982, Reg; September 26, 2014, Susp | ......do | Do.
New Port Richey, City of, Pasco County | 120232 | December 12, 1974, Emerg; August 17, 1981, Reg; September 26, 2014, Susp | ......do | Do.
Pasco County, Unincorporated Areas | 120230 | September 24, 1971, Emerg; November 18, 1981, Reg; September 26, 2014, Susp | ......do | Do.
Port Richey, City of, Pasco County | 120234 | August 30, 1974, Emerg; August 17, 1981, Reg; September 26, 2014, Susp | ......do | Do.
Saint Marks, City of, Wakulla County | 120316 | May 21, 1973, Emerg; March 18, 1980, Reg; September 26, 2014, Susp | ......do | Do.
San Antonio, City of, Pasco County | 120634 | October 10, 1991, Emerg; May 22, 2009, Reg; September 26, 2014, Susp | ......do | Do.
Sopchoppy, City of, Wakulla County | 120620 | February 4, 1982, Emerg; August 15, 1984, Reg; September 26, 2014, Susp | ......do | Do.
Wakulla County, Unincorporated Areas | 120315 | May 21, 1973, Emerg; January 16, 1981, Reg; September 26, 2014, Susp | ......do | Do.
Zephyrhills, City of, Pasco County | 120235 | August 7, 1975, Emerg; April 8, 1983, Reg; September 26, 2014, Susp | ......do | Do.
Kentucky: Flatwoods, City of, Greenup County | 210087 | May 6, 1975, Emerg; July 16, 1981, Reg; September 26, 2014, Susp | ......do | Do.
Greenup, City of, Greenup County | 210088 | December 15, 1975, Emerg; July 5, 1982, Reg; September 26, 2014, Susp | ......do | Do.
Greenup County, Unincorporated Areas | 210284 | February 16, 1977, Emerg; January 19, 1983, Reg; September 26, 2014, Susp | ......do | Do.
Raceland, City of, Greenup County | 210089 | January 21, 1976, Emerg; March 15, 1982, Reg; September 26, 2014, Susp | ......do | Do.
Russell, City of, Greenup County | 210090 | July 15, 1975, Emerg; January 19, 1983, Reg; September 26, 2014, Susp | ......do | Do.
South Shore, City of, Greenup County | 210091 | September 8, 1975, Emerg; August 3, 1981, Reg; September 26, 2014, Susp | ......do | Do.
Worthington, City of, Greenup County | 210092 | February 22, 1977, Emerg; September 30, 1981, Reg; September 26, 2014, Susp | ......do | Do.
Wurtland, City of, Greenup County | 210285 | June 30, 1976, Emerg; September 30, 1981, Reg; September 26, 2014, Susp | ......do | Do.
Region VI
Texas: Austwell, City of, Refugio County | 481086 | June 2, 1977, Emerg; September 4, 1985, Reg; September 26, 2014, Susp | ......do | Do.
Bayside, City of, Refugio County | 481586 | August 16, 1984, Emerg; March 18, 1985, Reg; September 26, 2014, Susp | ......do | Do.
Refugio, Town of, Refugio County | 480540 | August 7, 1970, Emerg; October 6, 1976, Reg; September 26, 2014, Susp | ......do | Do.
Refugio County, Unincorporated Areas | 485501 | August 7, 1970, Emerg; October 22, 1971, Reg; September 26, 2014, Susp | ......do | Do.
Woodsboro, Town of, Refugio County | 480987 | March 13, 1981, Emerg; July 16, 1981, Reg; September 26, 2014, Susp | ......do | Do.
Region IX
California:
Ontario, City of, San Bernardino County | 060278 | June 27, 1975, Emerg; December 2, 1980, Reg; September 26, 2014, Susp | ......do | Do.
* do = Ditto.
Code for reading third column: Emerg.—Emergency; Reg.—Regular; Susp.—Suspension.

Dated: August 7, 2014.
David L. Miller,
Associate Administrator, Federal Insurance and Mitigation Administration, Department of Homeland Security, Federal Emergency Management Agency.

[FR Doc. 2014-20092 Filed 8-22-14; 8:45 am]

BILLING CODE 9110-12-P